DEPARTMENT OF THE INTERIOR

Bureau of Land Management

[BLM_NM_FRN_MO4500178348]

Notice of Availability of the Proposed Resource Management Plan and Final Environmental Impact Statement for the BLM Rio Puerco Field Office, New Mexico

AGENCY: Bureau of Land Management, Interior

ACTION: Notice of availability.

SUMMARY: In compliance with the National Environmental Policy Act of 1969, as amended (NEPA), and the Federal Land Policy and Management Act of 1976, as amended, the Bureau of Land Management (BLM) Rio Puerco Field Office has prepared a Proposed Resource Management Plan (RMP) and associated Final Environmental Impact Statement (EIS), and by this notice is announcing the start of a 30-day protest period of the Proposed RMP.

DATES: This notice announces a 30-day protest period to the BLM on the Proposed RMP beginning with the date following the Environmental Protection Agency's (EPA) publication of its Notice of Availability (NOA) of the Proposed RMP/Final EIS by September 9, 2024. The EPA usually publishes its NOAs on Fridays. Protests must be postmarked or electronically submitted on the BLM's ePlanning website during the 30-day protest period.

ADDRESSES: The Proposed RMP/Final EIS is available online in the Documents and Reports section of the ePlanning project website at https://eplanning.blm.gov/eplanning-ui/project/64954/510. Documents pertinent to this proposal may be examined online at https://eplanning.blm.gov/eplanning-ui/project/64954/510 and at the Rio Puerco Field Office.

Instructions for filing a protest with the BLM for the Proposed RMP for the BLM Rio Puerco Field Office can be found at: https://www.blm.gov/programs/planning-and-nepa/public-participation/filing-a-plan-protest and at 43 CFR 1610.5-2.

FOR FURTHER INFORMATION CONTACT: Adam Lujan, Resource Management Plan Project Manager, BLM Rio Puerco Field Office; telephone: 505-761-8734; address: 100 Sun Ave. NE, Suite 330, Albuquerque, New Mexico 87109; or email: alujan@blm.gov. Individuals in the United States who are deaf, deafblind, hard of hearing, or have a speech disability may dial 711 (TTY, TDD, or TeleBraille) to access telecommunications relay services for contacting Mr. Lujan. Individuals outside the United States should use the relay services offered within their country to make international calls to the point-of-contact in the United States.

SUPPLEMENTARY INFORMATION: In the Rio Puerco Proposed RMP/Final EIS, the BLM analyzed the environmental consequences of four alternatives under consideration for managing approximately 731,600 acres of surface estate and about 3.6 million acres of subsurface mineral estate, which is known as the decision area. These lands, administered by the BLM Rio Puerco Field Office, are located within Bernalillo, Cibola, McKinley, Sandoval, Torrance, and Valencia counties in central New Mexico. The Rio Puerco planning area encompasses approximately 9.5 million acres, including National Forest; National Monuments; and Tribal, State, and private lands. It also includes valuable mineral resources and the largest population center in the State of New Mexico. This land use plan would replace the current Rio Puerco RMP, which the BLM approved in 1986 and amended in 1992. The Proposed RMP/Final EIS analyzes the impacts of delineating lands to account for changes in population, types of uses, technologies, user interests, and public understanding of resource availability in the Middle Rio Grande Watershed in central New Mexico.

The plan addresses several interrelated issues and management concerns, including land tenure adjustments, land use authorizations, recreation, areas with special management designations, lands with wilderness characteristics, livestock grazing, transportation access, renewable energy, visual resources, wildland/urban interface, and mineral resources. The agency selected these issues based on broad concerns or controversies related to conditions, trends, needs, and existing and potential uses of the planning area lands. Management prescriptions in potential areas of critical environmental concern (ACECs) that could limit development of (1) commercial mineral, solar, wind, or geothermal resources or (2) recreation or other resources important primarily for their economic benefit to the planning area must be evaluated to avoid unnecessarily restricting these activities. Additionally, large areas of mixed ownership (BLM parcels amongst private, Tribal, or other ownership) pose significant access and multiple-use issues, which is why this Proposed RMP/Final EIS identifies them as potential areas for exchange.

The four alternatives analyzed in detail in the Final EIS are as follows:

• BLM Alternative A (No Action)—Continues 1986 Resource Management Plan management direction;

• BLM Alternative B—Emphasizes resource protection;

• BLM Alternative C (Proposed) (Draft Preferred)—Focuses on providing a balance of resource uses with conservation; and

• BLM Alternative D—Allows for a greater opportunity for resource use and development.

The preferred alternative for the Proposed RMP is Alternative C, which was identified in the 2012 Draft RMP/Final EIS. The BLM has updated the alternatives, including Alternative C, for clarity and to incorporate the latest science and data, as well as to reflect current policies, laws, procedures, Tribal perspectives from government-to-government consultation, input and special expertise provided by cooperating agencies, and designations such as the Placitas Withdrawal (89 FR 31763 (April 25, 2024)). Some of these changes to Alternative C include closing additional sub-surface mineral acreage in the Placitas area to salable and locatable mineral development, closing areas with low potential for fluid mineral development, and modifying recreation management area designations. Alternative C would designate a total of 18 ACECs: 8 carried forward from the existing RMP (Cabezon Peak, Cañon Tapia, Elk Springs ACEC and Juana Lopez Research Natural Area, Jones Canyon, Ojito, Pronoun Cave Complex, San Luis Mesa Raptor Area, and Torreon Fossil Fauna); 2 expansions of ACECs in the existing RMP (Bluewater Canyon and Espinazo Ridge [formerly Ball Ranch]); and 10 new ACECs (Bony Canyon, Cañon Jarido, Cerro Verde, Guadalupe Ruin and Community, Ignacio Chavez, Legacy Uranium Mines, Petaca Pinta, and San Miguel Dome).

On February 29, 2008, the BLM published a Notice of Intent in the Federal Register, notifying the public of a formal scoping period and soliciting public participation (73 FR 11142). Between March 2007 and February 2008, Rio Puerco Field Office managers and staff had discussions about the Rio Puerco Draft RMP/Draft EIS with 12 local American Indian Tribal groups, including Acoma Pueblo, Eastern Navajo Agency Council, Isleta Pueblo, Jemez Pueblo, Laguna Pueblo, Navajo Nation, Ojo Encino Navajo Chapter, Sandia Pueblo, San Felipe Pueblo, Santo Domingo Pueblo, Torreon Navajo Chapter, Zia Pueblo, and Zuni Pueblo. A scoping presentation was given to the BLM Resource Advisory Council in March 2008. In April 2008, a scoping notice was distributed to more than 900 individuals. The BLM also met with various stakeholder and interest groups in the following ways:

• The BLM held eight scoping meetings in April 2008 in Albuquerque, Bernalillo, Cuba, Grants, Gallup, Los Lunas, Moriarty, and Rio Rancho.

• The BLM held two Economic Profile System workshops early in the process with local citizens and community leaders to develop a common understanding of the local economies and the ways in which land-use planning decisions might affect them.

• The public provided input on relevant issues to consider in the planning process. This information was received during the scoping period ending on September 30, 2008.

• The BLM hosted two internal Alternatives Development Workshops.

• The BLM held a Cooperating Agency Workshop.

On July 13, 2012, the BLM published a Notice of Availability in the Federal Register, notifying the public of the release of the Draft RMP/Draft EIS, and the beginning of the comment period (77 FR 41444). During the 90-day comment period, the BLM received over 45,000 comments from interested parties. Substantive public comments and BLM responses are available in the Proposed RMP/Final EIS, Volume III, Appendix R. The Proposed RMP/Final EIS is the compilation of all the public input and data analyzed and presented in the Draft RMP/Draft EIS plus the public input considered during the 90-day comment period.

Protest of the Proposed RMP

The BLM planning regulations state that any person who participated in the preparation of the RMP and has an interest that will or might be adversely affected by approval of the Proposed RMP may protest its approval to the BLM Director. Protest on the Proposed RMP constitutes the final opportunity for administrative review of the proposed land use planning decisions prior to the BLM adopting an approved RMP. Instructions for filing a protest regarding the Proposed RMP with the BLM Director may be found online at https://www.blm.gov/programs/planning-and-nepa/public-participation/filing-a-plan-protest and at 43 CFR 1610.5-2. All protests must be in writing and mailed to the appropriate address, as set forth in the ADDRESSES section earlier, or submitted electronically through the BLM ePlanning project website as described previously. Protests submitted electronically by any means other than the ePlanning project website or by fax will be invalid unless a protest is also submitted as a hard copy. The BLM Director will render a written decision on each protest. The Director's decision shall be the final decision of the Department of the Interior. Responses to valid protest issues will be compiled and documented in a Protest Resolution Report made available following the protest resolution online at: https://www.blm.gov/programs/planning-and-nepa/public-participation/protest-resolution-reports. Upon resolution of protests, the BLM will issue a Record of Decision and Approved RMP.

Before including your phone number, email address, or other personal identifying information in your protest, you should be aware that your entire protest—including your personal identifying information—may be made publicly available at any time. While you can ask us in your protest to withhold your personal identifying information from public review, we cannot guarantee that we will be able to do so.

(Authority: 40 CFR 1506.6, 40 CFR 1506.10, 43 CFR 1610.2, 43 CFR 1610.5)

Melanie G. Barnes,
BLM New Mexico State Director.

[FR Doc. 2024-17514 Filed 8-8-24; 8:45 am]

BILLING CODE 4310-FB-P